DEPARTMENT OF HEALTH AND HUMAN SERVICES

National Institutes of Health

Government-Owned Invention; Availability for Licensing: “Prostate Cancer Therapeutic and in vitro Diagnostic Method to Screen for the Presence of Metastatic Prostate Cancer—A Monoclonal Antibody Specific to Prostate Cells”

AGENCY: National Institutes of Health, Public Health Service, DHHS.

ACTION: Notice.

SUMMARY: The invention listed below is owned by an agency of the U.S. Government and is available for licensing in the U.S. in accordance with 35 U.S.C. 207 to achieve expeditious commercialization of results of federally funded research and development.

ADDRESSES: Licensing information may be obtained by contacting J. R. Dixon, Ph.D., at the Office of Technology Transfer, National Institutes of Health, 6011 Executive Boulevard, Suite 325, Rockville, Maryland 20852-3804 (telephone 301/496-7056 ext 206; fax 301/402-0220; E-Mail: jd212g@NIH.GOV). A signed Confidential Disclosure Agreement is required to receive a copy of any patent application.

SUPPLEMENTARY INFORMATION: Invention Title: “Monoclonal Antibodies to Prostate Cells”.

Inventor: Dr. Ira H. Pastan (NCI).

USP SN: 5,489,525 [= DHHS Ref. No. E-201-92/0]—Issued on February 6, 1996.

Abstract

Prostate Cancer is a disease affecting approximately 1 million men in the U.S.A., with an annual incidence of around 179,000 and approximately 30,000 deaths per year. It is estimated that one-third of men over 50 will develop prostate cancer at some time in their lives. Control of primary tumor by surgical resection and/or radiation has proven effective in a number of cases, however, metastatic spread, primarily to the bone, especially at late hormone independent stages of the disease, has been more difficult to control and monitor. With the aging of the U.S. population, it has been estimated that the number of prostate cancer cases will increase dramatically.

Technology

The technology disclosed in the 5,489,525 patent relates to a monoclonal antibody which is capable of binding to a cell surface differentiation antigen specific for prostate adenocarcinomas and other prostate cancer cells. Accordingly, methods of therapy can be employed with this monoclonal antibody to destroy prostate cancer cells, and hence, this monoclonal antibody may be useful in therapy and/or the diagnosis of prostate cancer. This monoclonal antibody can be produced by recombinant DNA techniques, the host cell being a eucaryotic or procaryotic cell, preferably a eucaryotic cell and more preferably mammalian. Hence, a monoclonal antibody, a recombinant monoclonal antibody, single polypeptide binding molecules, and binding fragments thereof coupled to molecules which are cytotoxic to prostate cancer cells (e.g., chemotherapeutic agents, prodrugs, cytotoxic or inhibitory peptides, cytokines, enzymes, diphtheria toxin, Pseudomonas Exotoxin, etc.) could be used to develop a prostate cancer therapeutic or diagnostic test system.

The above mentioned Invention and technology are available for licensing.

Dated: April 18, 2000.
Jack Spiegel,
Director, Division of Technology Development & Transfer, Office of Technology Transfer.

[FR Doc. 00-10177 Filed 4-21-00; 8:45 am]

BILLING CODE 4140-01-P